DEPARTMENT OF EDUCATION

Notice of Proposed Information Collection Requests; Federal Student Aid; Student Assistance General Provisions—Student Right To Know

SUMMARY: The proposed changes to the current regulations require institutions to disclose the employment and placement rate, retention rate of first-time, full-time undergraduate students, and completion and graduation rate data disaggregated by gender, race, and grant or loan assistance in addition to the currently required reporting to prospective and enrolled students and employees.

DATES: Interested persons are invited to submit comments on or before October 22, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04924. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Student Right to Know.

OMB Control Number: 1845-0004.

Type of Review: Extension.

Total Estimated Number of Annual Responses: 33,568.

Total Estimated Number of Annual Burden Hours: 244,179.

Abstract: Eligible participating post-secondary institutions are required to provide this Student Right-to-Know (SRK) information to all enrolled students, prospective students prior to their enrolling or entering into a financial obligation with the school as well as to institution's employees. This information pertains to the completion, graduation and post-graduate study rates for students at a given institution. This information must be made through publications, mailings and electronic media. The SRK information is made available so that students and prospective students can be aware of the ability of students at that institution to complete a course of study as well as find employment or continuing education opportunities upon graduation.

Dated: August 20, 2012.
Stephanie Valentine,
Acting Director, Information Collection Clearance Division, Privacy, Information and Records Management Services, Office of Management.

[FR Doc. 2012-20775 Filed 8-22-12; 8:45 am]

BILLING CODE 4000-01-P